DEPARTMENT OF LABOR

Employment and Training Administration

[TA-W-52,348]

Labinal-Corinth, Inc., Formerly Known as the Boeing Company, Boeing Defense and Space Group, Commercial Airplane Group, Corinth, TX; Notice of Termination of Investigation

Pursuant to Section 221 of the Trade Act of 1974, an investigation was initiated on July 18, 2003 in response to a worker petition which was filed on behalf of workers at Labinal-Corinth, Inc., Corinth, Texas.

An active certification covering the petitioning group of workers is already in effect (TA-W-40,525E, as amended). Consequently, further investigation in this case would serve no purpose, and the investigation has been terminated.

Signed in Washington, DC, this 18th day of August 2003.
Linda G. Poole,
Certifying Officer, Division of Trade Adjustment Assistance.

[FR Doc. 03-23727 Filed 9-16-03; 8:45 am]

BILLING CODE 4510-30-P